DEPARTMENT OF THE TREASURY

Internal Revenue Service

26 CFR Part 1

[TD 9094]

RIN 1545-BC01

Return of Partnership Income

AGENCY: Internal Revenue Service (IRS), Treasury.

ACTION: Correction to final and temporary regulations.

SUMMARY: This document contains final and temporary regulations that were published in the Federal Register on November 10, 2003 (68 FR 63733), that authorize the Commissioner to provide exceptions to the requirements of section 6301(a) of the Internal Revenue Code for certain partnerships by guidance published in the Internal Revenue Bulletin.

EFFECTIVE DATE: This correction is effective November 5, 2003.

FOR FURTHER INFORMATION CONTACT: David A. Shulman (202) 622-3070 (not a toll-free number).

SUPPLEMENTARY INFORMATION:

Background

The final and temporary regulations that are the subject of these corrections are under section 6031 of the Internal Revenue Code.

Need for Correction

As published, these final and temporary regulations (TD 9094) contain errors that may prove to be misleading and are in need of clarification.

Correction of Publication

Accordingly, the publication of the final and temporary regulations (TD 9094), which were the subject of FR Doc. 03-28190, is corrected to read as follows:

On page 63734, Authority Citation, column 1, the language “Section 1.6031(a)-1T also issued under” is corrected to read “Section 1.6031(a)-1T is also issued under”.

Cynthia E. Grigsby,
Acting Chief, Publications and Regulations Branch, Legal Processing Division, Associate Chief Counsel (Procedure and Administration).

[FR Doc. 03-30524 Filed 12-8-03; 8:45 am]

BILLING CODE 4830-01-P